FEDERAL MARITIME COMMISSION

Sunshine Act Meeting

AGENCY HOLDING THE MEETING: Federal Maritime Commission.

TIME AND DATE: September 16, 2015; 10:00 a.m.

PLACE: 800 N. Capitol Street NW., First Floor Hearing Room, Washington, DC.

STATUS: The first portion of the meeting will be held in Open Session; the second in Closed Session.

MATTERS TO BE CONSIDERED:

Open Session

1. Time and Service in Commission Adjudicatory Proceedings—Direct Final Rule

Closed Session

1. Ocean Common Carrier and Marine Terminal Operator Agreements Subject to the 1984 Shipping Act—Regulatory Review

2. Staff Briefing on the West Coast Marine Terminal Operator Agreement, FMC Agreement No. 201143

CONTACT PERSON FOR MORE INFORMATION: Karen V. Gregory, Secretary, (202) 523-5725.

Rachel E. Dickon,
Assistant Secretary.

[FR Doc. 2015-23058 Filed 9-9-15; 4:15 pm]

BILLING CODE 6730-01-P